DEPARTMENT OF THE INTERIOR

National Park Service

National Register of Historic Places; Notification of Pending Nominations and Related Actions

Nominations for the following properties being considered for listing or related actions in the National Register were received by the National Park Service before May 29, 2010. Pursuant to section 60.13 of 36 CFR Part 60, written comments are being accepted concerning the significance of the nominated properties under the National Register criteria for evaluation. Comments may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by July 8, 2010.

Before including your address, phone number, e-mail address, or other personal identifying information in your comment, you should be aware that your entire comment—including your personal identifying information—may be made publicly available at any time. While you can ask us in your comment to withhold your personal identifying information from public review, we cannot guarantee that we will be able to do so.

Alexandra Lord,
Acting Chief, National Register of Historic Places/National Historic Landmarks Program.

ARKANSAS

Crittenden County

West Memphis City Hall, 100 Court St, West Memphis, 10000444

Jefferson County

Antioch Missionary Baptist Church Cemetery, 500 N. McKinney Rd, Sherrill, 10000437

COLORADO

Denver County

Bennett-Field House, 740 Clarkson St, Denver, 10000435

Park County

Shawnee, 56016-56114 Frontage Rd; 55919-56278 Hwy 285; 31-36 W. Shawnee Rd; 54-152 Waterworks Rd, Shawnee, 10000434

FLORIDA

Clay County

Holly Cottage, 6935 Old Church Rd, Green Cove Springs, 10000442

KANSAS

Brown County

Bierer, Samuel, House, 410 N 7th St, Hiawatha, 10000450

Chase County

Shaft, William C. & Jane, House, 1682 FP Rd, Cedar Point, 10000449

Dickinson County

J.S. Hollinger Farmstead, (Agriculture-Related Resources of Kansas) 2250 2100 Ave, Chapman, 10000448

Gove County

Beamer Barn, (Agriculture-Related Resources of Kansas) 2931 CR 18, Oakley, 10000452

McPherson County

Hjerpe Grocery, 110 & 112 N Main, Lindsborg, 10000447

Republic County

Stevenson, S.T., House, 2012 N St, Belleville, 10000451

MISSISSIPPI

Attala County

Brett, George Washington, House, 3021 Attala Rd 3220, West, 10000440

Hancock County

Old Bay St. Louis Historic District, Roughly bounded by Beach Blvd, Third St on the E; Breath Ln and Hwy 90 on the N; Seminary Dr, St. Francis St, and * * *, Bat St. Louis, 10000441

Hinds County

George Street Grocery, 416 George St, Jackson, 10000438

Leflore County

Greyhound Lines Station, 325 Main St, Greenwood, 10000439

MISSOURI

Greene County

Springfield Grocer Company Warehouse, 323 N. Patton Ave, Springfield, 10000462

Jackson County

Montgomery Ward and Company General Merchandise Warehouse, (Railroad Related Historic Commercial and Industrial Resources in Kansas City, Missouri MPS) 819 E 19th St, Kansas City, 10000461

St. Louis County

Carney—Keightley House, 930 Hawkins Rd, Fenton, 10000460

NEVADA

Clark County

Gypsum Cave, 6 mi E of Las Vegas, Las Vegas Field Office BLM, Las Vegas, 10000443

OHIO

Auglaize County

Wintzer, Charles, Building, 202 Auglaize St W, Wapakoneta, 10000455

Franklin County

East North Broadway Historic District, E. N Broadway roughly between Broadway Pl and N Broadway Ln, Columbus, 10000454

Lorain County

Avon Isle, 37080 Detroit Rd, Avon, 10000456

Richland County

Bellville Cemetery Chapel, Bellville Cemetery, SR 97, Bellville, 10000457

PUERTO RICO

Camuy Municipality

Ernesto Memorial Chapel, Intersection SRs 486 and 488, Abra Honda Ward, Camuy, 10000453

VIRGINIA

Gloucester County

Hockley, 6640 Ware Neck Rd, Gloucester, 10000446

Norfolk Independent city

St. Peter's Episcopal Church, 1625 Brown Ave, Norfolk, 10000445

Scott County

Dungannon Depot, 3rd Ave (SR 65), Dungannon, 10000459

WISCONSIN

Columbia County

Sharrow, Frances Kurth, House, 841 Park Ave, Columbus, 10000436

Milwaukee County

Honey Creek Parkway, (Milwaukee County Parkway System) Located between STH 181 at I 94 and N 72nd st, Wautwatosa, 10000458

[FR Doc. 2010-15125 Filed 6-22-10; 8:45 am]

BILLING CODE 4310-70-P